DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[4/27/2011 through 5/12/2011]
Firm Name | Address | Date accepted for investigation | Products
A.W. Enterprises, Inc | 6543 South Laramie Avenue, Bedford Park, IL 60638 | 28-Apr-11 | The firm designs and manufactures leather and nylon cargo cases for the communication industry.
Ace Wire Spring & Form Company, Inc | 1105 Thompson Avenue, McKees Rocks, PA 15136 | 28-Apr-11 | The firm manufactures custom springs and wire forms.
Chicago Booth Manufacturing, Inc | 5000 W. Roosevelt Road, Chicago, IL 60644 | 12-May-11 | The firm manufactures booths, banquettes, tabletops, chairs, barstools and seats with wooden frames.
ClayTex Trophies, Inc | 241 Myers Road, Henrietta, TX 76365 | 11-May-11 | The firm manufactures original sculpture for trophies and awards.
Newport Plastics, LLC | 1525 E. Edinger Avenue, Santa Ana, CA 92705 | 04-May-11 | The firm manufactures a wide range of plastic goods for medical and government use using custom mold injection.
Quality Casting and Aluminum Products (QCAP) | 324 Hill Road, Franklin, NH 03235 | 11-May-11 | The firm manufactures products of aluminum, bronze, and zinc alloys using high-quality sand casting.
Sauder Woodworking Company | 502 Middle Street, P.O. Box 156, Archbold, OH 43502-0156 | 11-May-11 | The firm manufactures ready-to-assemble and finished furniture made of wood.
Sound Propeller Services, Inc | 7916 8th Avenue S., Seattle, WA 98108 | 11-May-11 | The firm manufactures marine propellers, propeller shafting and related accessories made of either stainless steel or a special bronze alloy.
Triton Industries, Inc | 1020 N Kolmar Avenue, Chicago, IL 60651 | 10-May-11 | The firm manufactures custom metal boxes, progressive die stampings, welded structures and machined metal parts such as enclosures, cabinets, rack mount chassis, food service parts, heat sinks and brackets.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: May 17, 2011.
Bryan Borlik,
Director.

[FR Doc. 2011-12689 Filed 5-23-11; 8:45 am]

BILLING CODE 3510-WH-P